DEPARTMENT OF TRANSPORTATION

Federal Highway Administration

Environmental Impact Statement: Riverside County, CA; Notice of Intent

AGENCY: Federal Highway Administration (FHWA), DOT.

ACTION: Notice of Intent.

SUMMARY: The FHWA, on behalf of the California Department of Transportation (Caltrans), is issuing this notice to advise the public that an Environmental Impact Statement (EIS) will be prepared for a proposed highway project in Riverside County, California. Caltrans will be responsible for production of the EIS in accordance with assignment of National Environmental Policy Act (NEPA) responsibilities from DOT to Caltrans pursuant to Section 6005 of the Safe, Accountable, Flexible, Efficient Transportation Equity Act: A Legacy for Users (SAFETEA-LU, Pub. L. 109-59).

DATES: Comments regarding the proposed action should be provided to Caltrans at the address listed below by no later than October 28, 2012.

FOR FURTHER INFORMATION CONTACT: Aaron Burton, Senior Environmental Planner, Environmental Studies “B,” California Department of Transportation, Division of Environmental Planning, 464 West 4th Street, 6th Floor, MS 829, San Bernardino, California 92401-1400; or call (909) 383-2841.

SUPPLEMENTARY INFORMATION: Effective July 1, 2007, the Federal Highway Administration (FHWA) assigned, and the California Department of Transportation (Caltrans) assumed, environmental responsibilities for this project pursuant to 23 U.S.C. 327. Caltrans, as the assignee for NEPA compliance, will prepare an EIS on a proposal for a roadway widening project in Riverside County, California. The proposed project would widen Cajalco Road from two to four lanes between Harvill Avenue at the east end and Temescal Canyon Road at the west end, from four to five lanes between Temescal Wash and Temescal Canyon Road, and from four to six lanes between Interstate 215 (I-215) southbound ramps and Harvill Avenue. The purpose of the proposed project is to: (1) To improve the transportation facility to address anticipated growth and mobility needs, as identified in the County of Riverside General Plan Circulation Element Policy 1.5; (2) provide improved interregional travel by improving east-west mobility in Riverside County; and (3) to improve roadway alignment and intersection design to enhance safety along Cajalco Road. Alternatives under consideration include: (1) Widening existing Cajalco Road with minor alignment changes between I-215 and Temescal Canyon Road; (2) widening existing Cajalco Road between I-215 and Hollis Lane and between east of Eagle Canyon Road and Temescal Canyon Road, along with constructing a new segment of Cajalco Road between Hollis Lane and east of Eagle Canyon Road; and (3) taking no action. The project covers a length of approximately 16 miles. Anticipated federal approvals for the project include Air Quality Conformity, Section 7,Endangered Species Act, consultation for threatened and endangered species, and a Section 404, Clean Water Act individual permit.

Letters describing the proposed action and soliciting comments will be sent to appropriate Federal, State, Participating Agencies, Tribal governments (as determined by the Native American Heritage Commission consultation), and local agencies, and to private organizations and citizens who have previously expressed or are known to have interest in this proposal. The environmental review process is anticipated to be started in late 2012. Public scoping meetings will be held to discuss the alternatives and the potential impacts of the proposed project. In addition, a public hearing will be held. Public notice will be given of the time and place of the meetings and hearing. The EIS will be available for public and agency review and comment prior to the public hearing.

To ensure that the full range of issues related to this proposed action are addressed and all significant issues identified, comments and suggestions are invited from all interested parties. Comments or questions concerning this proposed action and the EIS should be directed to Caltrans at the address provided above.

(Catalog of Federal Domestic Assistance Program Number 20.205, Highway Planning and Construction. The regulations implementing Executive Order 12372 regarding intergovernmental consultation on Federal programs and activities apply to this program.)

Issued on: September 17, 2012.
Rebecca Bennett,
Director, Local Programs, Federal Highway Administration, Sacramento, California.

[FR Doc. 2012-23679 Filed 9-25-12; 8:45 am]

BILLING CODE 4910-22-P